DEPARTMENT OF COMMERCE

National Oceanic and Atmospheric Administration

[I.D. 061906A]

Marine Mammals; File No. 984-1814

AGENCY: National Marine Fisheries Service (NMFS), National Oceanic and Atmospheric Administration (NOAA), Commerce.

ACTION: Notice; issuance of permit.

SUMMARY: Notice is hereby given that Dr. Terrie Williams, Department of Ecology and Evolutionary Biology, Center for Ocean Health - Long Marine Laboratory, University of California, 100 Shaffer Road, Santa Cruz, CA 95060 has been issued a permit to conduct research on Weddell seals (Leptonychotes weddellii).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On January 17, 2006 notice was published in the Federal Register ( 71 FR 2527) that a request for a scientific research permit to take the species identified above had been submitted by the above-named individual. The requested permit has been issued under the authority of the Marine Mammal Protection Act of 1972, as amended (16 U.S.C. 1361 et seq.), and the Regulations Governing the Taking and Importing of Marine Mammals (50 CFR part 216).

The applicant will capture up to 20 adults and disturb up to 40 adults annually. The animals will have a data logger/video system attached, muscle biopsies and blood samples collected, and blubber thickness measured. Study results are expected to increase understanding of the foraging behavior of this marine mammal species. The animals will be recaptured up to three times to remove or tend to the instruments. The permit also authorizes research-related mortality of up to two seals per year. The permit is issued for five years.

In compliance with the National Environmental Policy Act of 1969 (42 U.S.C. 4321 et seq.), a final determination has been made that the activity proposed is categorically excluded from the requirement to prepare an environmental assessment or environmental impact statement.

Dated: June 22, 2006.
P. Michael Payne,
Chief, Permits, Conservation and Education Division, Office of Protected Resources, National Marine Fisheries Service.

[FR Doc. 06-5814 Filed 6-28-06; 8:45 am]

BILLING CODE 3510-22-S